DEPARTMENT OF THE INTERIOR

Fish and Wildlife Service

[FWS-R1-ES-2009-N195; 10120-1112-0000-F2]

Endangered and Threatened Wildlife and Plants; Permit Application, Northern Spotted Owl, Oregon

AGENCY: Fish and Wildlife Service, Interior.

ACTION: Reopening of public comment period.

SUMMARY: We, the U.S. Fish and Wildlife Service (Service), announce the reopening of the public comment period for the Oregon Department of Forestry's (ODF) enhancement of survival permit (permit) application under the Endangered Species Act of 1973, as amended. The permit application includes a proposed programmatic safe harbor agreement (Agreement) between ODF, the U.S. Department of Agriculture—Natural Resources Conservation Service (NRCS), and the Service. The requested permit would authorize ODF to extend incidental take coverage with assurances through issuance of Certificates of Inclusion to eligible landowners willing to carry out habitat management measures expected to benefit the northern spotted owl (Strix occidentalis caurina), which is federally listed as threatened. We are reopening the comment period for 30 days. The original notice of availability was published in the Federal Register on July 21, 2009 (74 FR 35883), and contains additional information regarding the permit application. Previous comments need not be resubmitted.

DATES: To ensure consideration, please send your written comments by November 9, 2009.

ADDRESSES: You may submit your written comments to State Supervisor (see SUPPLEMENTARY INFORMATION below). Include your name and address in your comments and refer to the “Spotted Owl Programmatic Safe Harbor Agreement.”

FOR FURTHER INFORMATION CONTACT: Richard Szlemp (see SUPPLEMENTARY INFORMATION below), telephone (503) 231-6179. Persons who use a telecommunications device for the deaf (TDD) may call the Federal Information Relay Service (FIRS) at 800/877-8339, 24 hours a day, 7 days a week.

SUPPLEMENTARY INFORMATION:

Document Availability

You may obtain copies of the draft documents by contacting the State Supervisor, Oregon Fish and Wildlife Office, U.S. Fish and Wildlife Service, 2600 SE. 98th Ave., Suite 100, Portland, OR 97266; telephone (503) 231-6179; facsimile (503) 231-6195; or by making an appointment to view the documents at the above address during normal business hours. You may also view the documents on the Internet at http://www.fws.gov/oregonfwo/species/. The Service is furnishing this notice to provide the public, other State and Federal agencies, and interested Tribes an opportunity to review and comment on the draft documents.

Public Availability of Comments

Before including your address, phone number, e-mail address, or other personal identifying information in your comment, you should be aware that your entire comment—including your personal identifying information—may be made publicly available at any time. While you can ask us in your comment to withhold your personal identifying information from public review, we cannot guarantee that we will be able to do so.

The Service will evaluate the permit application, associated documents, and comments submitted thereon to determine whether the permit application meets the requirements of section 10(a)(1)(A) of the Act and that other applicable requirements have been satisfied. If we determine that all requirements are met, we will sign the Agreement and issue an enhancement of survival permit under section 10(a)(1)(A) of the Act to ODF for the take of northern spotted owls, incidental to otherwise lawful activities in accordance with the terms of the Agreement. This notice is provided pursuant to section 10(c) of the Act and NEPA regulations (40 CFR 1506.6).

Dated: October 2, 2009.
Miel Corbett,
Acting State Supervisor, Fish and Wildlife Service, Oregon Fish and Wildlife Office, Portland, Oregon.

[FR Doc. E9-24346 Filed 10-7-09; 8:45 am]

BILLING CODE 4310-55-P